DEPARTMENT OF LABOR

Office of Workers' Compensation Programs

20 CFR Parts 718 and 725

RIN 1240-AA07

Black Lung Benefits Act: Standards for Chest Radiographs

AGENCY: Office of Workers' Compensation Programs, Labor.

ACTION: Direct final rule; withdrawal.

SUMMARY: The Office of Workers' Compensation Programs (OWCP) published a direct final rule in the Federal Register on June 13, 2013, updating existing film-radiograph standards and providing parallel standards for submission of digital radiographs in connection with claims filed under the Black Lung Benefits Act. The comment period closed on August 12, 2013. OWCP is withdrawing the direct final rule because the agency received significant adverse comment.

DATES: Effective August 30, 2013, the direct final rule published on June 13, 2013, (78 FR 35549) is withdrawn.

FOR FURTHER INFORMATION CONTACT: Steven Breeskin, Director, Division of Coal Mine Workers' Compensation, Office of Workers' Compensation Programs, U.S. Department of Labor, 200 Constitution Avenue NW., Suite N-3464, Washington, DC 20210. Telephone: (202) 693-0824 (this is not a toll-free number). TTY/TDD callers may dial toll-free 1-800-877-8339 for further information.

SUPPLEMENTARY INFORMATION: On June 13, 2013, OWCP published the direct final rule, Black Lung Benefits Act: Standards for Chest Radiographs (78 FR 35549), to update existing film-radiograph standards and provide parallel standards for digital radiographs submitted in Black Lung Benefits Act claims. OWCP stated that the rule would go into effect unless the agency received significant adverse comment; in that event, OWCP stated that it would withdraw the direct final rule and proceed on the companion proposed rule also published in the Federal Register on June 13, 2013 (78 FR 35575). Because OWCP has received significant adverse comment, it is withdrawing the direct final rule with this notice. OWCP will address all comments in its final action on the proposed rule. As stated in both the direct final rule and companion proposed rule, OWCP will not institute a second comment period.

Dated: August 20, 2013.
Gary A. Steinberg,
Acting Director, Office of Workers' Compensation Programs.

[FR Doc. 2013-21029 Filed 8-29-13; 8:45 am]

BILLING CODE 4510-CR-P